DEPARTMENT OF COMMERCE

International Trade Administration

[Docket No. 2024-15926]

The President's Advisory Council on Doing Business in Africa; Correction

AGENCY: International Trade Administration, Department of Commerce.

ACTION: Final notice; correction.

SUMMARY: The International Trade Administration is correcting a final notice published in the Federal Register on July 19, 2024 regarding an open meeting of the President's Advisory Council on Doing Business in Africa. This correction applies to the date of the open meeting.

FOR FURTHER INFORMATION CONTACT: Giancarlo Cavallo at giancarlo.cavallo@trade.gov or 202-766-8044.

SUPPLEMENTARY INFORMATION:

Correction

In the Federal Register of July 19, 2024, in FR Doc. 2024-15926, at 89 FR 58718, in the second column, correct the DATES caption to read:

DATES: August 8, 2024, 9 a.m. eastern time.

Dated: July 23, 2024.
Kimberly White-Bacon,
Program Manager.

[FR Doc. 2024-16573 Filed 7-26-24; 8:45 am]

BILLING CODE 3510-FP-P